DEPARTMENT OF AGRICULTURE

Submission for OMB Review; Comment Request

August 16, 2017.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by September 20, 2017 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Appeals Division

Title: National Appeals Division Customer Service Survey.

OMB Control Number: 0503-0007.

Summary of Collection: The Secretary of Agriculture established the National Appeals Division (NAD) on October 20, 1994, by Secretary's Memorandum 1010-1, pursuant to the Federal Crop Insurance Reform and Department of Agriculture Reorganization Act of 1994 (Pub. L. 103-354, Section 271, dated October 13, 1994)/. The Act consolidated the appellate functions and staff of several USDA agencies. The intent is to provide for independent hearing and review determinations that resulted from Agency adverse decisions. Hearing Officers conduct evidentiary hearings on adverse decisions or, when the appellant requests they review the Agency's record of the adverse decision without a hearing. Although NAD maintains a database to track appeal requests, the database contains only information necessary to process the appeal request, such as the name, address, filing data, and final results of the appeal. NAD will collect information using a survey.

Need and Use of the Information: NAD wants to gather current data to measure the appellant's perception of the quality of how easy the determination was to read; how intently the Hearing Officer listened to the appellant; and if the appellant would be willing to have the same Hearing Officer hear a future appeal. NAD will also use the information gathered from its surveys to tailor and prioritize training.

Description of Respondents: Individuals or households.

Number of Respondents: 1,600.

Frequency of Responses: Reporting: Annually.

Total Burden Hours: 272.

Ruth Brown,
Departmental Information Collection Clearance Officer.

[FR Doc. 2017-17609 Filed 8-18-17; 8:45 am]

BILLING CODE 3410-WY-P